DEPARTMENT OF COMMERCE

International Trade Administration

[A-201-809]

Certain Cut-to-Length Carbon Steel Plate From Mexico: Rescission of Antidumping Administrative Review

AGENCY: Import Administration, International Trade Administration, Department of Commerce.

SUMMARY: The Department of Commerce (“the Department”) is rescinding the review it initiated on October 1, 1999 of the antidumping duty order on certain cut-to-length carbon steel plate from Mexico (64 FR 53318).

EFFECTIVE DATE: Febraury 9, 2000.

FOR FURTHER INFORMATION CONTACT: Tom Killiam or Robert James, Import Administration, International Trade Administration, U.S. Department of Commerce, 14th Street and Constitution Avenue, NW., Washington DC 20230; telephone (202) 482-3019 and 482-0649, respectively.

Applicable Statute

Unless otherwise indicated, all citations to the Tariff Act of 1930, as amended (“the Act”), are references to the provisions effective January 1, 1995, the effective date of the Uruguay Round Agreements Act (“URAA”). In addition, unless otherwise indicated, all citations to the Department's regulations are to the regulations codified at 19 CFR part 351 (1999).

Background

On August 31, 1999, the sole respondent, Altos de Hornos de Mexico (AHMSA), and the petitioners, Bethlehem Steel Corporation, Geneva Steel, Gulf Lakes Steel, Inc., of Alabama, Inland Steel Industries, Inc., Lukens Steel Company, Sharon Steel Corporation, and U.S. Steel Group (a unit of USX Corporation) requested that the Department conduct an administrative review of subject merchandise exported by AHMSA from Mexico to the United States for the period August 1, 1998 through July 31, 1999. On October 1, 1999, the Department published in the Federal Register (64 FR 53318) a notice of initiation of administrative review with respect to AHMSA for that period. The petitioners withdrew their request for a review on December 21, 1999; AHMSA withdrew its request on December 28, 1999.

Rescission of Review

Pursuant to 19 CFR 351.213(d)(1), the Department will rescind an administrative review if a party that requested the review withdraws the request within 90 days of the date of publication of the notice of initiation of the requested review. Because both parties' withdrawals were submitted within the 90-day time limit, we are rescinding this review. We will issue appropriate appraisement instructions directly to the US Customs Service.

This notice serves as a reminder to parties subject to administrative protective orders (APO) of their responsibility concerning the disposition of proprietary information disclosed under APO in accordance with 19 CFR 351.305(a)(3)(1999). Timely written notification of the return or destruction of APO materials, or conversion to judicial protective order, is hereby requested. Failure to comply with the regulations and terms of an APO is a sanctionable violation.

This notice is in accordance with section 777(i)(1) of the Act, 19 CFR 351.213(d)(1) and 19 CFR 351.213(d)(4).

Dated: January 28, 2000.
Richard O. Weible,
Acting Deputy Assistant Secretary for AD/CVD Enforcement Group III.

[FR Doc. 00-2975 Filed 2-8-00; 8:45 am]

BILLING CODE 3510-DS-P